DEPARTMENT OF AGRICULTURE

Forest Service

Motorized Vehicle Use on the Rogue River-Siskiyou National Forest

AGENCY: Forest Service, USDA.

ACTION: Notice of Intent to prepare an Environmental Impact Statement.

SUMMARY: The Rogue River-Siskiyou National Forest (Forest) will prepare an Environmental Impact Statement (EIS) to document and disclose the potential environmental effects of establishing and designating a system of roads, trails and areas for wheeled motorized vehicles. The Proposed Action would designate the location, type of vehicle and season of use for motorized vehicles across the entire Forest in order to meet the intent of the Travel Management; Designated Routes and Areas for Motor Vehicle Use, Final Rule that was published on November 9, 2005 (70 FR 216). Over-the-snow vehicles are excluded from this Proposed Action. A Forest Plan Amendment would be required to achieve the purpose and need, and implement the Proposed Action.

DATES: Comments concerning the scope of the analysis, issues about the Proposed Action, or alternatives to the Proposed Action are most helpful if received within 45 days following the date that this notice appears in the Federal Register.

ADDRESSES: Send electronic comments to: con-iments-pacificnorthwest-rogueriver siskiyou@fs.fed.us. Send written comments to: Travel Management Team, Rogue River Siskiyou National Forest, Siskiyou Mountains Ranger District, 645 Washington St., Ashland, OR 97520.

FOR FURTHER INFORMATION CONTACT: Steve Johnson, Team Leader, Siskiyou Mountains Ranger District, 645 Washington St., Ashland, OR 97520. Phone: (541) 552-2900.

SUPPLEMENTARY INFORMATION:

Background

On November 9, 2005, the Forest Service published final travel management regulations in the Federal Register (FR Vol. 70, No. 216-Nov. 9, 2005, pp. 68264-68291). This final Travel Management Rule requires designation of those roads, trails, and areas that are open to motor vehicle use by the public on National Forests. Designations will be made by class of vehicle and, if appropriate, by time of year. The final rule prohibits the use of motor vehicles by the public off the designated system as well as use of motor vehicles on routes and in areas that are not designated. Persons exempt from the final rule prohibitions would be those with a permit specifically authorizing access. Examples include access to private property, a mining claim or a communication site.

In June 2007, the Forest hosted a series of four open houses in southwest Oregon to provide people an opportunity to learn more about the Travel Analysis process that identifies and designates roads, trails, and areas open to motor vehicles. In addition, Forest representatives met with a number of individuals, groups and neighboring land management agencies in order for motorized and non-motorized users alike to get involved early as we began to gather information for the project.

Since that time Forest planners and resource specialists have verified and completed an inventory of existing open roads and trails. Currently, there are approximately 4,620 road miles and approximately 1,155 trail miles. Motorized trails account for approximately 15% (170 miles) of the total trail miles.

Under the Proposed Action, roads, trails and areas that are currently part of the Forest transportation system and are open to wheeled motorized vehicle travel would remain designated for such use except as described below. This proposal focuses on the designation of wheeled motorized vehicle routes and areas. The Proposed Action is being carried forward in accordance with the Travel Management Rule (36 CFR Part 212).

In accordance with the rule and following a decision on this proposal, the Forest will publish a Motor Vehicle Use Map (MVUM) identifying all Forest roads, trails and areas that are designated open for motor vehicle use by the public. The MVUM shall specify the classes of vehicles and, if appropriate, the times of year for which use is authorized. The MVUM will be updated and published annually (or more frequently if needed) when changes to the Forest's transportation system are made. Future decisions associated with changes to the MVUM may trigger the need for documentation of additional environmental analysis.

Purpose and Need

The purpose for action is to enact the Travel Management Rule. Motorized use is a popular use and is an important form of recreation for many individuals, families, and groups. A designated and managed system is needed to provide this use. Increased demand for motorized use, lack of designated areas/routes, and the inconsistent direction contained in the Forest Plans, has led to resource damage and social impacts, user conflicts, and safety concerns.

Proposed Action

Based on the stated purpose and need for action and as a result of the recent Travel Analysis process, the Forest proposes to:

• Prohibit motorized public access on approximately 60-65 miles of roads currently open in order to minimize or reduce resource damage;

• Formally designate approximately 3,390 miles of road where mixed use would be allowed. Mixed use is defined as designation of a National Forest System (NFS) road for use by both highway-legal and non-highway-legal motor vehicles;

• Construct two motorized trails to provide loop route opportunities (approximately 2 miles);

• Convert approximately 20-25 miles of NFS roads to motorized trails;

• Designate two areas where off-road motorized use is allowed. This includes continued use of the Woodruff area near Prospect and the development of an additional area near Willow Lake. Both areas are located on the High Cascades Ranger District; and

• Enact Forest Plan amendments to make the plans consistent with the Travel Management Rule. The Rogue River-Siskiyou National Forest is guided by two separate Forest Plans.

Maps illustrating the Proposed Action can found at: http://www.fs.fed.us/r6/rogue siskiyou/projects/travel/.

In addition, maps will be available for viewing at:

Forest Supervisor's Office, 3040 Biddle Road, Medford, OR 97504

Gold Beach Ranger District, 29279 Ellensburg Ave., Gold Beach, OR 97444 or 539 Chetco Aye, Brookings, OR 97415

High Cascades Ranger District, 47201 Highway 62, Prospect, OR 97536 or 730 Laurel St., Butte Falls, OR 97522

Powers Ranger District, 42861 Highway 242, Powers, OR 97466

Siskiyou Mountains Ranger District, 6941 Upper Applegate Road, Jacksonville, OR 97530 or 645 Washington Street, Ashland, OR 97520

Wild Rivers Ranger District, 2164 N.E. Spalding Avenue, Grants Pass, OR 97526 or 26568 Redwood Hwy., Cave Junction, OR 97523

Responsible Official

The Forest Supervisor, Scott D. Conroy, is the Responsible Official for making the decision and providing direction for the analysis under the National Environmental Policy Act (NEPA).

Scoping and NEPA Process

Public participation will be especially important at several points during the analysis. The Forest Service will be seeking information, comments, and assistance from the federal, state, and local agencies and other individuals or organizations who may be interested in or affected by the Proposed Action.

The Draft Environmental Impact Statement is expected to be filed with the Environmental Protection Agency (EPA) and to be available for public review by December 2008. EPA will publish a notice of availability (NOA) of the Draft EIS in the Federal Register. The comment period on the Draft EIS will extend 45 days from the date the EPA publishes the NOA in the Federal Register. At that time, copies of the Draft EIS will be distributed to interested and affected agencies, organizations, and members of the public for their review and comment. It is very important that those interested in the management of the Rogue River-Siskiyou National Forest participate at that time. Submission of comments in response to the Draft EIS is a prerequisite for eligibility to appeal under the 36 CFR part 217 regulations.

The Final EIS is scheduled to be completed in February 2009. In the Final EIS, the Forest Service will respond to comments received during the comment period that pertain to the environmental consequences discussed in the Draft EIS and applicable laws, regulations, and policies considered in making the decision.

Comment Requested

This Notice of Intent initiates the scoping process which guides the development of the Environmental Impact Statement. Comments received, including the names and addresses of those who comment, will be considered part of the public record on this proposal and will be available for public inspection.

The Forest Service believes, at this early stage, it is important to give reviewers notice of several court rulings related to public participation in the environmental review process. First, reviewers of Draft Environmental Impact Statements must structure their participation in the environmental review of the proposal so that it is meaningful and alerts an agency to the reviewer's position and contentions (Vermont Yankee Nuclear Power Corp. v. NRDC, 435 U.S. 519, 553 (1978)). Also, environmental objections that could be raised at the Draft Environmental Impact Statement stage, but that are not raised until after completion of the Final Environmental Impact Statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this Proposed Action participate by the close of the 45 day comment period so that substantive comments and objections are made available to the Forest Service at a time when it can meaningfully consider them and respond to them in the Final Environmental Impact Statement.

To assist the Forest Service in identifying and considering issues and concerns on the Proposed Action, comments on the Draft Environmental Impact Statement should be as specific as possible. It is also helpful if comments refer to specific pages or chapters of the Draft Environmental Impact Statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: August 18, 2008.
Scott D. Conroy,
Forest Supervisor, Rogue River-Siskiyou National Forest.

[FR Doc. E8-19675 Filed 8-25-08; 8:45 am]

BILLING CODE 3410-11-M